DEPARTMENT OF THE INTERIOR

Bureau of Land Management

[LLHQ300000.L19900000.PO0000.24X; OMB Control No. 1004-0121]

Agency Information Collection Activities; Leasing of Solid Minerals Other Than Coal and Oil Shale (43 CFR 3500-3590)

AGENCY: Bureau of Land Management, Interior.

ACTION: Notice of information collection; request for comment.

SUMMARY: In accordance with the Paperwork Reduction Act of 1995 (PRA), the Bureau of Land Management (BLM) proposes to renew an information collection.

DATES: Interested persons are invited to submit comments on or before November 18, 2024.

ADDRESSES: Send your written comments on this information collection request (ICR) by mail to Darrin King, Information Collection Clearance Officer, U.S. Department of the Interior, Bureau of Land Management, Attention PRA Office, 440 W 200 S #500, Salt Lake City, UT 84101; or by email to BLM_HQ_PRA_Comments@blm.gov. Please reference Office of Management and Budget (OMB) Control Number 1004-0121 in the subject line of your comments. Please note that the electronic submission of comments is recommended.

FOR FURTHER INFORMATION CONTACT: To request additional information about this ICR, contact John Grasso by email at jgrasso@blm.gov, or by telephone at (303) 239-3777. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor, and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether the collection of information is necessary for the proper performance of the functions of the agency, including whether the information will have practical utility;

(2) The accuracy of our estimate of the burden for this collection of information, including the validity of the methodology and assumptions used;

(3) Ways to enhance the quality, utility, and clarity of the information to be collected; and

(4) How might the agency minimize the burden of the collection of information on those who are to respond, including the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The BLM seeks to renew the information collection pertaining to the leasing of solid minerals other than coal and oil shale other than coal and oil shale on Federal land, and the development of those lease. Respondents affected by this information collection request are those who desire to obtain lease for Federal minerals other than coal and oil shale, and operators of such leases. The regulations at 43 CFR part 3590 apply to operations for discovery, testing, development, mining, reclamation, and processing. OMB control number 1004-0121 is currently scheduled to expire on August 31, 2025. The BLM plans to request that OMB renew this OMB control number of an additional three (3) years.

Title of Collection: Leasing of Solid Minerals Other Than Coal and Oil Shale (43 CFR 3500-3590).

OMB Control Number: 1004-0121.

Form Numbers: BLM Form 3504-001; BLM Form 3504-003; BLM Form 3504-004; BLM Form 3510-001; BLM Form 3510-002; and BLM Form 3520-007.

Type of Review: Extension of a currently approved collection.

Respondents/Affected Public: Holders of Federal leases of solid minerals other than coal and oil shale.

Total Estimated Number of Annual Respondents: 170.

Total Estimated Number of Annual Responses: 507.

Estimated Completion Time per Response: Varies from 1 hour to 400 hours, depending on activity.

Total Estimated Number of Annual Burden Hours: 27,296.

Respondent's Obligation: Required to obtain or retain a benefit.

Frequency of Collection: On occasion.

Total Estimated Annual Nonhour Burden Cost: $2,051,105.

An agency may not conduct or sponsor and, notwithstanding any other provision of law, a person is not required to respond to a collection of information unless it displays a currently valid OMB control number.

The authority for this action is the Paperwork Reduction Act of 1995 (44 U.S.C. 3501 et seq.).

Darrin A. King,
Information Collection Clearance Officer.

[FR Doc. 2024-21422 Filed 9-18-24; 8:45 am]

BILLING CODE 4310-84-P